DEPARTMENT OF TRANSPORTATION

Federal Aviation Administration

14 CFR Part 39

[Docket No. FAA-2010-0223; Directorate Identifier 2009-NM-105-AD; Amendment 39-16503; AD 2010-23-14]

RIN 2120-AA64

Airworthiness Directives; Bombardier, Inc. Model CL-600-2B19 (Regional Jet Series 100 & 440), CL-600-2C10 (Regional Jet Series 700, 701 & 702), CL-600-2D15 (Regional Jet Series 705), and CL-600-2D24 (Regional Jet Series 900) Airplanes

AGENCY: Federal Aviation Administration (FAA), Department of Transportation (DOT).

ACTION: Final rule.

SUMMARY: We are adopting a new airworthiness directive (AD) for the products listed above. This AD results from mandatory continuing airworthiness information (MCAI) originated by an aviation authority of another country to identify and correct an unsafe condition on an aviation product. The MCAI describes the unsafe condition as:

Several cases of corrosion in lower structural members of the passenger door have been reported. It was subsequently determined that a drainage ramp (constructed from resin) had deteriorated with time and was retaining moisture. * * * Corrosion left undetected could eventually affect the structural integrity of the door and surrounding structure.

We are issuing this AD to require actions to correct the unsafe condition on these products.

DATES: This AD becomes effective December 22, 2010.

The Director of the Federal Register approved the incorporation by reference of certain publications listed in this AD as of December 22, 2010.

ADDRESSES: You may examine the AD docket on the Internet at http://www.regulations.gov or in person at the U.S. Department of Transportation, Docket Operations, M-30, West Building Ground Floor, Room W12-140, 1200 New Jersey Avenue, SE., Washington, DC.

FOR FURTHER INFORMATION CONTACT: Craig Yates, Aerospace Engineer, Airframe and Mechanical Systems Branch, ANE-171, FAA, New York Aircraft Certification Office, 1600 Stewart Avenue, Suite 410, Westbury, New York 11590; telephone (516) 228-7355; fax (516) 794-5531.

SUPPLEMENTARY INFORMATION:

Discussion

We issued a notice of proposed rulemaking (NPRM) to amend 14 CFR part 39 to include an AD that would apply to the specified products. That NPRM was published in the Federal Register on March 15, 2010 (75 FR 12152). That NPRM proposed to correct an unsafe condition for the specified products. The MCAI states:

Several cases of corrosion in lower structural members of the passenger door have been reported. It was subsequently determined that a drainage ramp (constructed from resin) had deteriorated with time and was retaining moisture. The ramp, therefore, requires removal, both to prevent further corrosion and to allow full access to the door structure during future scheduled inspections. Corrosion left undetected could eventually affect the structural integrity of the door and surrounding structure.

The required actions include a general visual inspection for corrosion and damage of the lower inner section of the door, repair if necessary, and application of corrosion inhibitor compound. You may obtain further information by examining the MCAI in the AD docket.

Since the NPRM was issued, we received Bombardier Modification Summary Packages IS601R52110030, Revision B, dated May 28, 2010; and IS67052110074, Revision D, dated June 2, 2010. The revised modification summaries provide instructions for optional access to ease removal of the drainage ramp, which includes an option to install the appropriate-sized rivets. Those revised modification summaries have been referenced in this AD. We have revised Table 2 of this AD to give credit for doing the actions before the effective date of this AD in accordance with Bombardier Modification Summary Package IS601R52110030, Revision A1, dated April 24, 2009; and Bombardier Modification Summary Package IS67052110074, Revision A1, dated April 24, 2009.

Comments

We gave the public the opportunity to participate in developing this AD. We considered the comments received.

Request To Include Provisions for Oversized Rivets and Repairs for Inner Skin When Required

American Eagle Airlines requested that the proposed AD include an option to install oversized rivets and/or repair the inner skin when required. American Eagle Airlines stated that if certain rivets must be installed per specific drawings, and the next nominal fastener is required, alternative method of compliances (AMOC) must be obtained, which will increase the number of AMOCs and decrease efficiency when accomplishing this modification.

We agree with the commenter's request. As stated previously, we have revised this AD to refer to Bombardier Modification Summary Package IS601R52110030, Revision B, dated May 28, 2010; and Bombardier Modification Summary Package IS67052110074, Revision D, dated June 2, 2010. These modification summaries were issued to ensure that the appropriate information concerning the option requested by the commenter is addressed.

Request That Cost of Compliance Be Amended To Reflect True Cost of Labor

Air Wisconsin Airlines requested that the cost of compliance be amended to more truly reflect the amount of labor and costs to the airlines. Air Wisconsin Airlines stated that this modification has been accomplished on 20 airplanes and the modifications have taken between 100 and 140 work-hours to accomplish.

We agree that the cost of compliance should be changed to reflect the actual cost of the modification. We have considered the data presented by the commenter and the manufacturer, and agree that the number of work hours required is higher than our previous estimate. The cost analysis in AD rulemaking actions, typically does not include incidental costs such as the time required to gain access and close up, time necessary for planning, or time necessitated by other administrative actions. Those incidental costs, which might vary significantly among operators, are almost impossible to calculate. The manufacturer states that the average work-hours required for each airplane for the modification is 80. We have revised the work-hour estimate to 80. The costs have been changed accordingly.

Request To Remove Certain Wording From Paragraph (g)(3) of the NPRM

Mesaba Airlines requested that the wording “Remove the lower passenger door ramp” be removed from paragraph (g)(3) of the NPRM. Mesaba Airlines stated that paragraph (g)(1) of the NPRM requires removing the lower passenger door ramp, and stating it again in paragraph (g)(3) may cause confusion.

We agree that the wording in question should be removed from paragraph (g)(3) of this AD. Since the door ramp is already removed when accomplishing the tasks in paragraph (g)(3) of this AD, it is unnecessary to repeat the phrase. Paragraph (g)(3) of this AD has been revised accordingly.

Clarification of Wording in Paragraph (g)(3) of This AD

For clarity, we have removed the sentence “Applying corrosion inhibiter compound is a terminating action for the requirements of this AD” from paragraph (g)(3) of this AD. As specified in paragraph (g) of this AD, the actions in all of the subparagraphs of paragraph (g) of this AD (i.e., paragraphs (g)(1), (g)(2), and (g)(3)) must be done.

Conclusion

We reviewed the available data, including the comments received, and determined that air safety and the public interest require adopting the AD with the changes described previously. We determined that these changes will not increase the economic burden on any operator or increase the scope of the AD.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have required different actions in this AD from those in the MCAI in order to follow our FAA policies. Any such differences are highlighted in a Note within the AD.

Costs of Compliance

We estimate that this AD will affect 1,072 products of U.S. registry. We also estimate that it will take 80 work-hours per product to comply with the basic requirements of this AD. The average labor rate is $85 per work-hour. Required parts will cost about $0 per product. Where the service information lists required parts costs that are covered under warranty, we have assumed that there will be no charge for these parts. As we do not control warranty coverage for affected parties, some parties may incur costs higher than estimated here. Based on these figures, we estimate the cost of this AD to the U.S. operators to be $7,289,600, or $6,800 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket.

Examining the AD Docket

You may examine the AD docket on the Internet at http://www.regulations.gov; or in person at the Docket Operations office between 9 a.m. and 5 p.m., Monday through Friday, except Federal holidays. The AD docket contains the NPRM, the regulatory evaluation, any comments received, and other information. The street address for the Docket Operations office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2010-23-14 Bombardier, Inc: Amendment 39-16503. Docket No. FAA-2010-0223; Directorate Identifier 2009-NM-105-AD.

Effective Date

(a) This airworthiness directive (AD) becomes effective December 22, 2010.

Affected ADs

(b) None.

Applicability

(c) This AD applies to the Bombardier, Inc. airplanes identified in paragraphs (c)(1), (c)(2), and (c)(3) of this AD, certificated in any category.

(1) Model CL-600-2B19 (Regional Jet Series 100 & 440) airplanes, serial numbers 7003 through 8089 inclusive;

(2) Model CL-600-2C10 (Regional Jet Series 700, 701 & 702) airplanes, serial numbers 10003 through 10265 inclusive; and

(3) Model CL-600-2D15 (Regional Jet Series 705) and CL-600-2D24 (Regional Jet Series 900) airplanes, serial numbers 15001 through 15173 inclusive.

Subject

(d) Air Transport Association (ATA) of America Code 52: Doors.

Reason

(e) The mandatory continuing airworthiness information (MCAI) states:

Several cases of corrosion in lower structural members of the passenger door have been reported. It was subsequently determined that a drainage ramp (constructed from resin) had deteriorated with time and was retaining moisture. The ramp, therefore, requires removal, both to prevent further corrosion and to allow full access to the door structure during future scheduled inspections. Corrosion left undetected could eventually affect the structural integrity of the door and surrounding structure.

The required actions include a general visual inspection for corrosion and damage of the lower inner section of the door, repair if necessary, and application of corrosion inhibitor compound.

Compliance

(f) You are responsible for having the actions required by this AD performed within the compliance times specified, unless the actions have already been done.

Actions

(g) Before the accumulation of 15,000 total flight hours, or within 5,000 flight hours after the effective date of this AD, whichever occurs later, do the actions specified in paragraphs (g)(1), (g)(2), and (g)(3) of this AD.

(1) Remove the lower passenger door ramp, in accordance with the applicable Bombardier modification summary package specified in Table 1 of this AD.

(2) Do a general visual inspection for any damage and corrosion behind the drainage ramp in the lower portion of the passenger door. If any damage or corrosion is found, before further flight repair in accordance with a method approved by the Manager, New York Aircraft Certification Office, FAA; or Transport Canada Civil Aviation (TCCA) (or its delegated agent).

(3) Apply corrosion inhibitor compound, in accordance with the applicable Bombardier modification summary package specified in Table 1 of this AD.

Table 1—Service Information
Applicable airplanes | Bombardier service information | Revision | Date
Model CL-600-2B19 airplanes | Bombardier Modification Summary Package IS601R52110030 | B | May 28, 2010.
Model CL-600-2C10, CL-600-2D15, and CL-600-2D24 airplanes | Bombardier Modification Summary Package IS67052110074 | D | June 2, 2010.

(4) Inspections and modifications accomplished before the effective date of this AD according to the applicable Bombardier modification summary package listed in Table 2 of this AD, are considered acceptable for compliance with the corresponding inspection or modification specified in this AD.

Table 2—Credit Service Information
Applicable airplanes | Bombardier service information | Revision | Date
Model CL-600-2B19 airplanes | Bombardier Modification Summary Package IS601R52110030 | A | July 5, 2006.
Model CL-600-2B19 airplanes | Bombardier Modification Summary Package IS601R52110030 | A1 | April 24, 2009.
Model CL-600-2C10, CL-600-2D15, and CL-600-2D24 airplanes | Bombardier Modification Summary Package IS67052110074 | A | July 5, 2006.
Model CL-600-2C10, CL-600-2D15, and CL-600-2D24 airplanes | Bombardier Modification Summary Package IS67052110074 | A1 | April 24, 2009.

FAA AD Differences

Note 1: This AD differs from the MCAI and/or service information as follows: The MCAI does not require an inspection or application of a corrosion inhibitor compound. This AD requires both actions.

Other FAA AD Provisions

(h) The following provisions also apply to this AD:

(1) Alternative Methods of Compliance (AMOCs): The Manager, New York Aircraft Certification Office (ACO), ANE-170, FAA, has the authority to approve AMOCs for this AD, if requested using the procedures found in 14 CFR 39.19. Send information to Attn: Program Manager, Continuing Operational Safety, FAA, New York ACO, 1600 Stewart Avenue, Suite 410, Westbury, New York 11590; telephone 516-228-7300; fax 516-794-5531. Before using any approved AMOC on any airplane to which the AMOC applies, notify your principal maintenance inspector (PMI) or principal avionics inspector (PAI), as appropriate, or lacking a principal inspector, your local Flight Standards District Office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act (44 U.S.C. 3501 et seq.), the Office of Management and Budget (OMB) has approved the information collection requirements and has assigned OMB Control Number 2120-0056.

Related Information

(i) Refer to MCAI Canadian Airworthiness Directive CF-2009-23, dated May 19, 2009, and the Bombardier modification summary packages listed in Table 1 of this AD, for related information.

Material Incorporated by Reference

(j) You must use Bombardier Modification Summary Package IS601R52110030, Revision B, dated May 28, 2010; and Bombardier Modification Summary Package IS67052110074, Revision D, dated June 2, 2010; as applicable; to do the actions required by this AD, unless the AD specifies otherwise. (The revision date of these modification summary packages is located only on sheet 2 of the documents; no other page of the documents contains this information.)

(1) The Director of the Federal Register approved the incorporation by reference of this service information under 5 U.S.C. 552(a) and 1 CFR part 51.

(2) For service information identified in this AD, contact Bombardier, Inc., 400 Côte Vertu Road West, Dorval, Québec H4S 1Y9, Canada; telephone 514-855-5000; fax 514 855-7401; e-mail thd.crj@aero.bombardier.com; Internet http://www.bombardier.com.

(3) You may review copies of the service information at the FAA, Transport Airplane Directorate, 1601 Lind Avenue, SW., Renton, Washington. For information on the availability of this material at the FAA, call 425-227-1221.

(4) You may also review copies of the service information that is incorporated by reference at the National Archives and Records Administration (NARA). For information on the availability of this material at NARA, call 202-741-6030, or go to: http://www.archives.gov/federal_register/code_of_federal_regulations/ibr_locations.html.

Issued in Renton, Washington, on October 23, 2010.
Michael Kaszycki,
Acting Manager, Transport Airplane Directorate, Aircraft Certification Service.

[FR Doc. 2010-28175 Filed 11-16-10; 8:45 am]

BILLING CODE 4910-13-P